DEPARTMENT OF DEFENSE

Office of the Secretary

[Docket ID: DOD-2011-OS-0042]

Privacy Act of 1974; System of Records

AGENCY: Defense Logistics Agency, DoD.

ACTION: Notice to amend a system of records.

SUMMARY: The Defense Logistics Agency is proposing to amend a system of records notice in its existing inventory of record systems subject to the Privacy Act of 1974 (5 U.S.C. 552a), as amended.

DATES: The proposed action will be effective without further notice on May 18, 2011 unless comments are received which would result in a contrary determination.

ADDRESSES: You may submit comments, identified by docket number and/Regulatory Information Number (RIN) and title, by any of the following methods:

• Federal Rulemaking Portal: http://www.regulations.gov. Follow the instructions for submitting comments.

• Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Jody Sinkler at (703) 767-5045, or Privacy Act Officer, Headquarters Defense Logistics Agency, ATTN: DGA, 8725 John J. Kingman Road, Suite 1644, Fort Belvoir, VA 22060-6221.

SUPPLEMENTARY INFORMATION: The Defense Logistics Agency's system of record notices subject to the Privacy Act of 1974 (5 U.S.C. 552a), as amended, have been published in the Federal Register and are available from the FOR FURTHER INFORMATION CONTACT address above.

The specific changes to the record system being amended are set forth below followed by the notice, as amended, published in its entirety. The proposed amendment is not within the purview of subsection (r) of the Privacy Act of 1974 (5 U.S.C. 552a), as amended, which requires the submission of new or altered systems reports.

Dated: April 12, 2011.
Morgan F. Park,
Alternate OSD Federal Register Liaison Officer, Department of Defense.

S510.30

System name:

Freedom of Information Act/Privacy Act Requests and Administrative Appeal Records (January 22, 2009, 74 FR 4009).

Changes:

* * * * *

System location:

Delete entry and replace with “DLA FOIA/Privacy Act Office, Headquarters, Defense Logistics Agency, ATTN: DGA, 8725 John J. Kingman Road, Suite 1644, Fort Belvoir, VA 22060-6221 and the FOIA/Privacy Act Offices of the DLA Primary Level Field Activities. Mailing addresses for the DLA Primary Level Field Activities may be obtained from the system manager.”

* * * * *

Safeguards:

Delete entry and replace with “Information in this system is safeguarded in accordance with applicable laws, rules, and policies. Access is limited to those officers and employees of the agency who have an official need for access in order to perform their duties. Access to electronic media is further restricted by the use of a two-factor authentication process, Common Access Card and registered login name. Physical entry is restricted by the use of locks, guards, and administrative procedures. Employees are periodically briefed on the consequences of improperly accessing restricted databases.”

* * * * *

System manager(s) and address:

Delete entry and replace with “Senior Privacy and FOIA Officer, DLA FOIA/Privacy Act Office, Headquarters, Defense Logistics Agency, ATTN: DGA, 8725 John J. Kingman Road, Suite 1644, Fort Belvoir, VA 22060-6221.”

Notification procedure:

Delete entry and replace with “Individuals seeking to determine whether information about themselves is contained in this system should address written inquiries to the DLA Activity to which the initial request was addressed and/or directed or you may submit your request to the DLA FOIA/Privacy Act Office, Headquarters, Defense Logistics Agency, ATTN: DGA, 8725 John J. Kingman Road, Suite 1644, Fort Belvoir, VA 22060-6221.

Written inquiry should contain the subject individual's full name, current address, telephone number, a description of the records sought, and correspondence tracking number, if known.”

Record access procedures:

Delete entry and replace with “Individuals seeking access to information about themselves contained in this system of records should address written inquiries to the DLA Activity to which the initial request was addressed and/or directed or you may submit your request to the DLA FOIA/Privacy Act Office, Headquarters, Defense Logistics Agency, ATTN: DGA, 8725 John J. Kingman Road, Suite 1644, Fort Belvoir, VA 22060-6221.

Written inquiry should contain the subject individual's full name, current address, telephone number, a description of the records sought, and correspondence tracking number, if known.”

Contesting record procedures:

Delete entry and replace with “The DLA rules for accessing records, for contesting contents, and appealing initial agency determinations are contained in 32 CFR part 323, or may be obtained from the DLA FOIA/Privacy Act Office, Headquarters, Defense Logistics Agency, ATTN: DGA, 8725 John J. Kingman Road, Suite 1644, Fort Belvoir, VA 22060-6221.”

* * * * *

S510.30

System name:

Freedom of Information Act/Privacy Act Requests and Administrative Appeal Records.

System location:

DLA FOIA/Privacy Act Office, Headquarters, Defense Logistics Agency, ATTN: DGA, 8725 John J. Kingman Road, Suite 1644, Fort Belvoir, VA 22060-6221 and the FOIA/Privacy Act Offices of the DLA Primary Level Field Activities. Mailing addresses for the DLA Primary Level Field Activities may be obtained from the System manager.

Categories of individuals covered by the system:

Individuals who submit Freedom of Information Act (FOIA) and Privacy Act (PA) requests, or FOIA/PA administrative appeals; individuals whose requests and/or records have been referred to the Defense Logistics Agency by other agencies; and in some instances includes attorneys representing individuals submitting such requests and appeals, or individuals who are the subjects of such requests and appeals.

Categories of records in the system:

Records created or compiled in response to FOIA and Privacy Act requests and administrative appeals and includes the original requests and administrative appeals; responses to such requests and administrative appeals; all related memoranda, correspondence, notes, and other related or supporting documentation; and, in some instances, copies of requested records and records under administrative appeal.

Authority for maintenance of the system:

5 U.S.C. 301, Departmental Regulations; 5 U.S.C. 552, Freedom of Information Act, as amended; and 5 U.S.C. 552a, The Privacy Act of 1974, as amended.

Purpose(s):

This system is maintained for the purpose of processing access requests and administrative appeals under the FOIA, access and amendment requests and administrative appeals under the Privacy Act; for the purpose of participating in litigation regarding agency action on such requests and appeals; and for the purpose of assisting the Defense Logistics Agency in carrying out any other responsibilities under the FOIA and the Privacy Act.

Routine uses of records maintained in the system, including categories of users and the purposes of such uses:

In addition to those disclosures generally permitted under 5 U.S.C. 552a(b) of the Privacy Act of 1974, these records contained therein may specifically be disclosed outside the DOD as a routine use pursuant to 5 U.S.C. 552a(b)(3) as follows:

Information may be provided to other Federal, State, and local agencies when it is necessary to coordinate responses or denials.

The DoD `Blanket Routine Uses' also apply to this system of records.

Policies and practices for storing, retrieving, accessing, retaining and disposing of records in the system:

Storage:

Records may be stored on paper and/or on electronic media.

Retrievability:

Records are retrieved by the name of the requester or appellant; the case number assigned to the request or appeal; and in some instances may be retrieved by the name of the attorney representing the requester or appellant, or the name of an individual who is the subject of such a request or appeal.

Safeguards:

Information in this system is safeguarded in accordance with applicable laws, rules, and policies. Access is limited to those officers and employees of the agency who have an official need for access in order to perform their duties. Access to electronic media is further restricted by the use of a two-factor authentication process, Common Access Card and registered login name. Physical entry is restricted by the use of locks, guards, and administrative procedures. Employees are periodically briefed on the consequences of improperly accessing restricted databases.

Retention and disposal:

Freedom of Information Act Requests Full disclosure files are destroyed 2 years after date of reply; FOIA request denial files are destroyed after 6 years if not appealed; FOIA appeal files are destroyed 6 years after final determination by agency, or 6 years after the time at which a requester could file suit, or 3 years after adjudication by courts, whichever is later.

Privacy Act Requests—Requests totally granted are destroyed 2 years after date of reply; requests totally or partially denied and not appealed are destroyed 5 years after date of reply; requests totally or partially denied and appealed are destroyed 4 years after final determination by agency or 3 years after final adjudication by courts, whichever is later.

System manager(s) and address:

Senior Privacy and FOIA Officer, DLA FOIA/Privacy Act Office, Headquarters, Defense Logistics Agency, ATTN: DGA, 8725 John J. Kingman Road, Suite 1644, Fort Belvoir, VA 22060-6221.

Notification procedure:

Individuals seeking to determine whether information about themselves is contained in this system should address written inquiries to the DLA Activity to which the initial request was addressed and/or directed or you may submit your request to the DLA FOIA/Privacy Act Office, Headquarters, Defense Logistics Agency, ATTN: DGA, 8725 John J. Kingman Road, Suite 1644, Fort Belvoir, VA 22060-6221.

Written inquiry should contain the subject individual's full name, current address, telephone number, a description of the records sought, and correspondence tracking number, if known.

Record access procedures:

Individuals seeking access to information about themselves contained in this system of records should address written inquiries to the DLA Activity to which the initial request was addressed and/or directed or you may submit your request to the DLA FOIA/Privacy Act Office, Headquarters, Defense Logistics Agency, ATTN: DGA, 8725 John J. Kingman Road, Suite 1644, Fort Belvoir, VA 22060-6221.

Written inquiry should contain the subject individual's full name, current address, telephone number, a description of the records sought, and correspondence tracking number, if known.

Contesting record procedures:

The DLA rules for accessing records, for contesting contents, and appealing initial agency determinations are contained in 32 CFR part 323, or may be obtained from the DLA FOIA/Privacy Act Office, Headquarters, Defense Logistics Agency, ATTN: DGA, 8725 John J. Kingman Road, Suite 1644, Fort Belvoir, VA 22060-6221.

Record source categories:

Data is provided by the record subject, the FOIA/Privacy Act staff, and program software. Those individuals who submit initial requests and administrative appeals pursuant to the FOIA and the Privacy Act; the agency records searched in the process of responding to such requests and appeals; other agencies or entities that have referred to the Defense Logistics Agency requests concerning Defense Logistics Agency records, or that have consulted with the Defense Logistics Agency regarding the handling of particular requests.

Exemptions claimed for the system:

During the course of a FOIA/Privacy Act action, exempt materials from other systems of records may become part of the case records in this system of records. To the extent that copies of exempt records from those other systems of records are entered into these FOIA/PA case records, Defense Logistics Agency hereby claims the same exemptions for the records as claimed in the original primary systems of records which they are a part.

An exemption rule for this system has been promulgated in accordance with requirements of 5 U.S.C. 553(b)(1), (2), and (3), (c), and (e) and published in 32 CFR part 323. For additional information contact the System manager.

[FR Doc. 2011-9335 Filed 4-15-11; 8:45 am]

BILLING CODE 5001-06-P